DEPARTMENT OF THE TREASURY

Internal Revenue Service

26 CFR Part 301

[REG-121698-08]

RIN 1545-BI00

Amendments to the Section 7216 Regulations—Disclosure or Use of Information by Preparers of Returns; Correction

AGENCY: Internal Revenue Service (IRS), Treasury.

ACTION: Correction to a notice of proposed rulemaking by cross-reference to temporary regulations.

SUMMARY: This document contains a correction to a notice of proposed rulemaking by cross-reference to temporary regulations (REG-121698-08) that was published in the Federal Register on Wednesday, July 2, 2008 (73 FR 37910) providing updated guidance affecting tax return preparers regarding the disclosure of a taxpayer's social security number to a tax return preparer located outside of the United States in order to provide an exception allowing such disclosure with the taxpayer's consent in limited circumstances.

FOR FURTHER INFORMATION CONTACT: Lawrence E. Mack, (202) 622-4940 (not a toll-free number).

SUPPLEMENTARY INFORMATION:

Background

The correction notice that is the subject of this document is under section 7216 of the Internal Revenue Code.

Need for Correction

As published, a notice of proposed rulemaking by cross-reference to temporary regulations (REG-121698-08) contains an error that may prove to be misleading and is in need of clarification.

Correction of Publication

Accordingly, the publication of a notice of proposed rulemaking by cross-reference to temporary regulations (REG-121698-08), which was the subject of FR Doc. E8-15047, is corrected as follows:

On page 37911, column 2, in the preamble, under the paragraph heading “Comments and Public Hearing”, line 4 of the last paragraph, the language “must submit written comments on” is corrected to read “must submit written comments by”.

LaNita Van Dyke,
Chief, Publications and Regulations Branch, Legal Processing Division, Associate Chief Counsel, (Procedure and Administration).

[FR Doc. E8-16304 Filed 7-15-08; 8:45 am]

BILLING CODE 4830-01-P